DEPARTMENT OF COMMERCE

National Oceanic and Atmospheric Administration

Draft Revised Management Plan for the Kachemak Bay National Estuarine Research Reserve

AGENCY: Office for Coastal Management, National Ocean Service, National Oceanic and Atmospheric Administration, U.S. Department of Commerce.

ACTION: Request for comments on draft revised management plan.

SUMMARY: The National Oceanic and Atmospheric Administration (NOAA) is soliciting comments from the public regarding a proposed revision of the management plan for the Kachemak Bay National Estuarine Research Reserve. A management plan: Provides a framework for the direction and timing of a reserve's programs; allows reserve managers to assess a reserve's success in meeting its goals and to identify any necessary changes in direction; and is used to guide programmatic evaluations of the reserve. Plan revisions are required of each reserve in the National Estuarine Research Reserve System at least every five years. This revised plan is intended to replace the plan approved in 2012.

DATES: Comments must be received at the appropriate address (see ADDRESSES) on or before June 28, 2021.

ADDRESSES: The draft revised management plan can be downloaded or viewed at https://accs.uaa.alaska.edu/kachemak-bay-nerr-draft-management-plan. The document is also available by sending a written request to the point of contact identified below (see FOR FURTHER INFORMATION).

You may submit comments by:

Electronic Submission: Submit all electronic public comments by email to Bree.Turner@noaa.gov. Include “Comments on draft Kachemak Bay National Estuarine Research Reserve Management Plan” in the subject line of the message.

FOR FURTHER INFORMATION CONTACT: Bree Turner of NOAA's Office for Coastal Management, by email at Bree.Turner@noaa.gov or phone at (206) 526-4641.

SUPPLEMENTARY INFORMATION: Pursuant to 15 CFR 921.33(c), a state must revise the management plan for the research reserve at least every five years. If approved by NOAA, the Kachemak Bay National Estuarine Research Reserve's revised plan will replace the plan previously approved in 2012.

The draft revised management plan outlines the reserve's: Strategic goals and objectives; administrative structure; programs for conducting research and monitoring, education, and training; resource protection plan; public access and visitor use plans; consideration for future land acquisition; and facility development to support reserve operations. In particular, this draft revised management plan focuses on changes to the Kachemak Bay National Estuarine Research Reserve's management issues and goals, which are now: Understanding environmental change; understanding land use and human impacts; community-relevant engagement; and long-term ecosystem monitoring.

Since 2012, the reserve has undergone significant state agency administration transition from the Alaska Department of Fish and Game, Division of Sport Fish to the University of Alaska-Anchorage, College of Arts and Sciences, Alaska Center for Conservation Science. With the administrative transition, the reserve staff and programs have relocated from the Alaska Islands and Ocean Visitor Center to the reserve's Field Station modular office and bunkhouse. Due to the change in facilities, some of the education and training programs have changed, but many of the core research, monitoring, education, and training activities have remained the same. The revised management plan, once approved, would serve as the guiding document for the 372,000-acre Kachemak Bay National Estuarine Research Reserve for the next five years.

NOAA's Office for Coastal Management analyzes the environmental impacts of the proposed approval of this draft revised management plan in accordance with section 102(2)(C) of the National Environmental Policy Act of 1969, as amended, 42 U.S.C. 4332(2)(C), and the Council on Environmental Quality Regulations for Implementing the Procedural Provisions of NEPA (40 CFR 1500-1508). The public is invited to comment on the draft revised management plan. NOAA will take these comments into consideration in deciding whether to approve the draft revised management plan in whole or in part.

(Authority: 16 U.S.C. 1451 et seq.; 15 CFR 921.33.)

Keelin S. Kuipers,
Deputy Director, Office for Coastal Management, National Ocean Service, National Oceanic and Atmospheric Administration.

[FR Doc. 2021-11270 Filed 5-26-21; 8:45 am]

BILLING CODE 3510-NK-P